DEPARTMENT OF ENERGY

Environmental Management (EM) Site-Specific Advisory Board (SSAB), Fernald

AGENCY: Department of Energy.

ACTION: Notice of open meeting.

SUMMARY: This notice announces a meeting of the Environmental Management Site-Specific Advisory Board, (EM SSAB) Fernald. Federal Advisory Committee Act (Pub. L. No. 92-463, 86 Stat. 770) requires that public notice of these meetings be announced in the Federal Register.

DATES: Saturday, July 15, 2000: 8:30 a.m.-12:00 p.m.

ADDRESSES: DOE-Fernald Site, Large Laboratory Conference Room, 7400 Willey Road, Hamilton, OH 45013.

FOR FURTHER INFORMATION CONTACT: Victoria Spriggs, Phoenix Environmental, 6186 Old Franconia Road, Alexandria, VA 22310, at (513) 648-6478.

SUPPLEMENTARY INFORMATION: Purpose of the Board: The purpose of the Board is to make recommendations to DOE in the areas of environmental restoration, waste management, and related activities.

Tentative Agenda

8:30 a.m.—Call to order

8:30-8:45 a.m.—Chairs Remarks and Announcements

8:45-9:15 a.m.—Site Specific Advisory Boards' Common Interests Statement

9:15-9:45 a.m.—Discussion of 2001 Budget and Impacts on Remediation Schedule

9:45-10:00 a.m.—Site Traffic Study

10:00-10:15 a.m.—Break

10:15-11:00 a.m.—Native American Reinterment

11:00-11:45 p.m.—Future of Fernald Vision and Next Steps

11:45-12:00 p.m.—Public Comment

12:00 p.m.—Adjourn

Public Participation: The meeting is open to the public. Written statements may be filed with the Board chair either before or after the meeting. Individuals who wish to make oral statements pertaining to agenda items should contact the Board chair at the address or telephone number listed below. Requests must be received five days prior to the meeting and reasonable provision will be made to include the presentation in the agenda. The Deputy Designated Federal Officer, Gary Stegner, Public Affairs Officer, Ohio Field Office, U.S. Department of Energy, is empowered to conduct the meeting in a fashion that will facilitate the orderly conduct of business. Each individual wishing to make public comment will be provided a maximum of five minutes to present their comments.

Minutes: The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to the Fernald Citizens' Advisory Board, C/O Phoenix Environmental Corporation, MS 76, Post Office Box 538704, Cincinnati, Ohio 45253-8704, or by calling the Advisory Board at (513) 648-6478.

Issued at Washington, DC on June 22, 2000.
Rachel Samuel,
Deputy Advisory Committee Management Officer.

[FR Doc. 00-16299 Filed 6-27-00; 8:45 am]

BILLING CODE 6450-01-P